DEPARTMENT OF THE INTERIOR

Bureau of Indian Affairs

[AAK6006201 210A2100DD AOR3030.999900]

Draft Environmental Impact Statement for Osage County Oil and Gas, Osage County, Oklahoma

AGENCY: Bureau of Indian Affairs, Interior.

ACTION: Notice of availability.

SUMMARY: This notice advises the public that the Bureau of Indian Affairs (BIA), as the lead Federal agency, and the Osage Nation, Osage Minerals Council, U.S. Geological Survey (USGS), and Environmental Protection Agency (EPA), as cooperating agencies, have prepared a Draft Environmental Impact Statement. The Osage County Oil and Gas Draft Environmental Impact Statement (DEIS) analyzes the potential impacts that future oil and gas development will have on the surface estate and subsurface mineral estate in Osage County, Oklahoma. This notice announces that the DEIS is available for public review and that the BIA will hold a public meeting to receive comments.

DATES: A public meeting will be held at location and time to be announced. Notice of the public meeting will be made in local news media at least 15 days prior to the meeting. In order for written comments on the DEIS to be considered, the BIA must receive them within 45 days following the date the EPA publishes its Notice of Availability in the Federal Register.

ADDRESSES: Information regarding the public comment period and public meeting will be posted on the project website: https://www.bia.gov/regional-offices/eastern-oklahoma/osage-agency/osage-oil-and-gas-eis. Comments on the DEIS may be submitted by any of the following methods:

Email: osagecountyoilandgaseis@bia.gov

Fax: (918) 287-5700

Mail or hand delivery: Osage County Oil and Gas EIS, BIA Osage Agency, Attn: Superintendent, P.O. Box 1539, Pawhuska, OK 74056

The DEIS may be examined at the BIA Osage Agency, 813 Grandview Avenue, Pawhuska, Oklahoma. The DEIS is also available for review online at the project website listed above.

FOR FURTHER INFORMATION CONTACT: Mr. Mosby Halterman, Supervisory Environmental Specialist, telephone: 918-781-4660; email: mosby.halterman@bia.gov; address: BIA Eastern Oklahoma Regional Office, PO Box 8002, Muskogee, OK 74402.

SUPPLEMENTARY INFORMATION: The Osage Allotment Act of 1906 (1906 Act), as amended, reserved all rights to the subsurface mineral estate underlying Osage County, Oklahoma (Osage Mineral Estate) to the Osage Nation. In accordance with the 1906 Act, the Osage Mineral Estate is held in trust by the United States for the benefit of the Osage Nation. All leases, applications for permits to drill, and other site-specific permit applications in Osage County are approved under the authority of the 1906 Act, as amended, and 25 Code of Federal Regulations (CFR), part 226, Leasing of Osage Reservation Lands for Oil and Gas Mining.

The purpose of the BIA's action is to administer leasing and development of the Osage Mineral Estate in the best interest of the Osage Nation, in accordance with the 1906 Act, as amended, balancing resource conservation and maximization of oil and gas production in the long term. The BIA is required, under more generally applicable statutes, to include in the best interest calculation the protection of the environment in Osage County to enhance conservation of resources and protection of the health and safety of the Osage people. Based on these considerations, the BIA's action promotes the maximization of oil and gas production from the Osage Mineral Estate in a manner that is economic, efficient, and safe; prevents pollution; and is consistent with the mandates of Federal law.

The DEIS analyzes the following four alternatives for managing oil and gas development in Osage County:

Alternative 1, No Action Alternative.

Alternative 2, Emphasize Oil and Gas Development. Minimize the number of permit Conditions of Approval (COAs) to allow producers wider latitude in determining the methods by which they will comply with applicable laws and regulations, such as the Endangered Species Act of 1973 and Clean Water Act of 1972.

Alternative 3, Hybrid Development. A hybrid approach, by applying additional protective COAs in sections with low levels of historical oil and gas development minimizing the number of COAs in sections with high levels of historical oil and gas development. The BIA would not approve permits for new ground-disturbing oil and gas development activities in certain sensitive areas.

Alternative 4, Enhanced Resource Protection. Apply additional protective COAs in all areas and implement well-spacing requirements. The BIA would not approve permits for new ground-disturbing oil and gas development activities in certain sensitive areas.

The alternatives represent the range of reasonable actions that could be taken to satisfy the purpose of and need for the BIA's action. All alternatives incorporate measures necessary to address impacts on air quality, water resources, cultural resources, public health and safety, threatened and endangered species, and socioeconomics among other things. Additional alternatives were considered but eliminated from detailed analysis.

The Notice of Intent to prepare an EIS was published in the Federal Register on July 26, 2013 (78 FR 45266). At that time, analysis of oil and gas development in Osage County was to be included in the Bureau of Land Management (BLM)-BIA Oklahoma, Kansas, and Texas (OKT) Joint EIS/BLM Resource Management Plan (RMP)/BIA Integrated Resource Management Plan (IRMP). In response to issues raised during scoping for the OKT Joint EIS/BLM RMP/BIA IRMP, and at the request of the Osage Minerals Council, the BIA decided that the Osage County Oil and Gas EIS would be prepared as a separate document. In November 2015, the BIA published the Osage County Oil and Gas DEIS (2015 DEIS). Following the comment period on the 2015 DEIS, the BIA determined that a new draft EIS needed to be prepared to address comments received and take additional information into consideration.

The Supplemental Notice of Intent to Revise the Osage County Oil and Gas EIS was published in the Federal Register on April 11, 2016 (81 FR 21376). On April 28, 2016, the BIA hosted a public scoping meeting in Pawhuska, Oklahoma. Key issues identified during scoping included potential impacts on visual and aesthetic resources, vegetation, soils, rangeland, livestock, fish and wildlife, special status species, human health and property, air quality and climate change; promotion of economic development; impacts on groundwater and surface water quality and quantity; impacts from roads and noise; seismicity; promotion of the Osage Mineral Estate; protection of cultural resources; and measures that can be taken to minimize adverse impacts from oil and gas development.

Directions for Submitting Comments: The public is encouraged to comment on any and all portions of the DEIS. The BIA asks that those submitting comments make them as specific as possible with reference to chapters, sections, page numbers, and paragraphs in the DEIS. The most useful comments are those that include new technical or scientific information, identification of data gaps in the impact analysis, and technical or scientific rationale for stated opinions or preferences. Please include your name, return address, and the caption “Draft EIS Comments, Osage County Oil and Gas EIS” on the first page of your written comments. The BIA will respond to comments in the Final EIS. Comments that contain only opinions or preferences will not receive a formal response but will be considered as part of the BIA's decision-making process.

Public Comment Availability: Written comments, including names and addresses of respondents, will be available for public review at the BIA Osage Agency, 813 Grandview Avenue, Pawhuska, Oklahoma, during regular business hours, 8 a.m. to 4:30 p.m., Monday through Friday, except for Federal holidays. Before including your address, telephone number, email address, or other personal identifying information in your comment, be aware that your entire comment—including your personal identifying information—may be made publicly available at any time. While you can ask us in your comment to withhold your personal identifying information from public review, we cannot guarantee that we will be able to do so.

Authority: This notice is published in accordance with Section 1503.1 of the Council on Environmental Quality regulations (40 CFR 1500 et seq.) and the Department of the Interior Regulations (43 CFR part 46) implementing the procedural requirements of NEPA (42 U.S.C. 4321 et seq.), and in accordance with the authority delegated to the Assistant Secretary—Indian Affairs, in Part 209 of the Departmental Manual.

Dated: November 18, 2019.
Tara Sweeney,
Assistant Secretary, Indian Affairs.

[FR Doc. 2019-25413 Filed 11-21-19; 8:45 am]

BILLING CODE 4337-15-P